DEPARTMENT OF ENERGY

Federal Energy Regulatory Commission

[Docket No. IN24-2-000]

American Efficient, LLC, Modern Energy Group LLC, MIH LLC, Midcontinent Energy LLC, Wylan Energy, LLC, Affirmed Energy LLC; Notice of Designation of Commission Staff as Non-Decisional

With respect to an order issued by the Commission on December 16, 2024, in the above-captioned docket, with the exceptions noted below, the staff of the Office of Enforcement are designated as non-decisional in deliberations by the Commission in this docket.¹ Accordingly, pursuant to 18 CFR 385.2202 (2024), they will not serve as advisors to the Commission or take part in the Commission's review of any offer of settlement. Likewise, as non-decisional staff, pursuant to 18 CFR 385.2201 (2024), they are prohibited from communicating with advisory staff concerning any deliberations in this docket.

¹ American Efficient, LLC, Modern Energy Group LLC, MIH LLC, Midcontinent Energy LLC, Wylan Energy, L.L.C., Affirmed Energy LLC, 189 FERC ¶ 61,196 (2024).

Exceptions to this designation as non-decisional are:

Nicholas Stavlas

Michael Raibman

Thomas Olson

Mark Maneche

Yvonne Yegge

Charles Kitcher

Jennifer Gordon

Gareth Jones

Ian McDonald

Sam Malech

Erin Miller

Sara Brehm

Serrita Hill

Steven Bundick

Dated: December 18, 2024.
Carlos D. Clay,
Acting Deputy Secretary.

[FR Doc. 2024-30700 Filed 12-23-24; 8:45 am]

BILLING CODE 6717-01-P